DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than May 28, 2002.

ADDRESSES: Submit written comments on any or all of the following proposed activities by mail to either: Mr. Robert Brogan, Office of Safety, Planning and Evaluation Division, RRS-21, Federal Railroad Administration, 1120 Vermont Ave., NW, Mail Stop 17, Washington, DC 20590, or Ms. Dian Deal, Office of Information Technology and Productivity Improvement, RAD-20, Federal Railroad Administration, 1120 Vermont Ave., NW, Mail Stop 35, Washington, DC 20590. Commenters requesting FRA to acknowledge receipt of their respective comments must include a self-addressed stamped postcard stating, “Comments on OMB control number 2130-0533.” Alternatively, comments may be transmitted via facsimile to (202) 493-6265 or (202) 493-6170, or e-mail to Mr. Brogan at robert.brogan@fra.dot.gov, or to Ms. Deal at dian.deal@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW, Mail Stop 17, Washington, DC 20590 (telephone: (202) 493-6292) or Dian Deal, Office of Information Technology and Productivity Improvement, RAD-20, Federal Railroad Administration, 1120 Vermont Ave., NW, Mail Stop 35, Washington, DC 20590 (telephone: (202) 493-6133). (These telephone numbers are not toll-free.)

SUPPLEMENTARY INFORMATION: The Paperwork Reduction Act of 1995 (PRA), Pub. L. 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Qualifications For Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required that FRA issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Affected Public: Businesses.

Respondent Universe: 685 railroads.

Frequency of Submission: On occasion; annually; tri-annually.

Reporting Burden
CFR Section | Respondent universe | Total annual responses | Average time per response | Total annual burden hours | Total annual burden cost
240.9—Waivers | 685 railroads | 5 waivers | 1 hour | 5 | $170
240.101/103—Certification Prog | 685 railroads | 10 programs | 200 hours/40 hours | 1,840 | 62,560
240.101/103—Cert. Prog.—Final Rev | 685 railroads | 10 reviews | 1 hour | 10 | 340
240.105(a)—Selection Criteria for DSLEs. | 685 railroads | 10 reports | 1 hour | 10 | 490
240.105(b)—DSLE Approval Plan—Amendments. | 685 railroads | 75 amendments | 1 hour | 75 | 2,550
240.111—Duty to Furnish Data on Prior Safety Conduct—Car Drvr. | 685 railroads | 400 calls | 10 minutes | 67 | 3,149
240.1111—Driver's License Data | 13,333 candidates | 13,333 requests | 15 minutes | 3,333 | 156,651
240.111/App. C—RR Notification to candidate—NDR Match | 685 railroads | 267 requests | 30 minutes | 134 | 5,427
240.111(g)—Notice to RR of Absence of License. | 40,000 candidates | 4 letters | 15 minutes | 1 | 47
240.111/App. C—Written Response from candidate on Driver's Lic Data. | 685 railroads | 40 comments | 15 minutes | 10 | 470
240.113—Notice to RR Furnishing Data on Prior Safety Conduct—Diff. RR. | 13,333 candidates | 534 requests/resp | 15 min./30 min | 200 | 7,671
240.115—Candidate's Comments on Prior Saf. Conduct Data. | 13,333 candidates | 133 responses | 30 minutes | 67 | 3,149
240.117—Criteria—Oper. Rules Compl. Data. | 685 railroads | 3 violations/appeals | 12 hours | 36 | 1,764
240.121—Criteria—Vision/Hearing Acuity Data—New Railroads. | 10 railroads | 10 copies | 15 minutes | 3 | 102
240.121—Criteria—Vision/Hearing Acuity Data—Cond. Certification. | 685 railroads | 17 reports | 1 hour | 17 | 578
240.121—Criteria—Vision/Hearing Acuity Data—Not Meeting Standards. | 685 railroads | 10 notifications | 15 minutes | 3 | 141
240.201/221—List of Certified Loco. Engineers. | 685 railroads | 685 updates | 15 minutes | 171 | 5,814
240.201/221—List of Qualified DSLEs | 685 railroads | 685 updates | 15 minutes | 171 | 5,814
240.201/223/301—Loco. Engineers Certificate. | 40,000 candidates | 13,333 certificates | 5 minutes | 1,111 | 37,774
240.201/223—List of Des. Persons Authorized to Sign DSLE Certificate. | 685 railroads | 20 lists | 15 minutes | 5 | 170
240.205—Data to EAP Counselor | 685 railroads | 267 records | 5 minutes | 22 | 1,034
240.207—Medical Certificate | 40,000 candidates | 13,333 certificates | 70 minutes | 15,555 | 528,870
240.209/213—Written Test | 40,000 candidates | 13,333 tests | 2 hours | 26,666 | 906,644
240.211/213—Perf. Test | 40,000 candidates | 13,333 tests | 2 hours | 26,666 | 906,644
240.215—Record Keeping—Loc. Eng | 685 railroads | 13,333 records | 10 minutes | 2,222 | 75,548
240.219—Denial of Certification | 13,333 candidates | 150 letters/resp. | 1 hour | 150 | 6,075
240.219—Denial of Certification—Notices. | 685 railroads | 75 notifications | 1 hour | 75 | 2,550
240.227—Canadian Certification Data | Canadian railroads | 200 certifications | 15 minutes | 50 | 1,700
240.229—Requirement For Joint Operations Territory. | 685 railroads | 184 calls | 5 minutes | 15 | 705
240.303—Annual Op. Monitoring Obs | 40,000 candidates | 40,000 tests | 2 hours | 80,000 | 3,920,000
240.303—Annual Operational Observ | 40,000 candidates | 40,000 tests | 1 hour | 40,000 | 1,960,000
240.305—Eng. Notification of Non-Qualification. | 40,000 candidates | 10 notifications | 5 minutes | 1 | 47
240.305—Engineer Notice of Loss of Qualification. | 40,000 candidates | 2 letters | 30 minutes | 1 | 47
240.307—Rev. of Certification—Notice of Eng. Disqualification. | 685 railroads | 500 letters | 1 hour | 500 | 17,000
240.309—RR Oversight Resp.—RR Annual Review. | 42 railroads | 42 reviews | 80 hours | 3,360 | 188,160
240.309—RR Oversight Resp | 15 railroads | 10 annotations | 15 minutes | 3 | 147
240.401—Engineer Appeal to FRA | 40,000 Engineers | 97 petitions | 12 hours | 1,164 | 54,708
240.405—RR's Response to Appeal | 685 railroads | 97 responses | 6 hours | 582 | 28,518
240.407—Request For a Hearing | 685 railroads and 40,000 Engineers. | 16 Hearing requests | 30 minutes | 8 | 376
240.411—Appeals | 685 railroads and 40,000 Engineers. | 2 Appeal notices | 2 hours | 4 | 94

Total Responses: 164,568.

Estimated Total Annual Burden: 204,313 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on March 19, 2002.
Kathy A. Weiner,
Director, Office of Information Technology and Support Systems, Federal Railroad Administration.

[FR Doc. 02-7351 Filed 3-26-02; 8:45 am]

BILLING CODE 4910-06-P